DEPARTMENT OF THE INTERIOR

Bureau of Land Management

[CA-360-1230-PA-1220]

Supplementary Rules

AGENCY: Bureau of Land Management, Interior.

ACTION: Establishment of open hours for Reading Island Recreation Site, Swasey Drive-Area of Critical Environmental Concern (ACEC) and adjoining areas. The affected public land includes all BLM managed lands within:

Mount Diablo Meridian

T. 29N., R. 3W Sec. 3, 10

T. 31N., R. 5W Sec. 6, 7

T. 31N., R. 6W Sec. 12

SUMMARY: The BLM is prohibiting persons from driving, parking, or leaving motorized vehicles within the Reading Island Recreation Day Use Area, Swasey Drive ACEC and adjoining areas from 1 hour after sunset to 1 hour before sunrise. The use of these areas by motorized vehicles during the prohibited hours must have written authorization from a BLM authorized officer.

SUPPLEMENTARY INFORMATION: Reading Island Recreation Day Use Area, Swasey Drive ACEC and adjoining areas are recreation sites within Shasta County, California that are adjacent to residential areas. Although most public use at the site is lawful and orderly, night time vandalism, littering, shooting and drug use has been a problem. The night time activity deters lawful public use, damages natural and cultural resources, and creates a public nuisance. The BLM can reduce this type of unlawful activity and enhance the setting for valid recreation use by requiring a permit for night time motorized use. Reading Island Recreation Day Use Area, Swasey Drive ACEC and adjoining areas are open to the general public and motorized vehicles from 1 hour before sunrise until 1 hour after sunset. After those hours, visitors to the site must obtain written authorization from a BLM authorized officer to use motorized vehicles in the two areas mentioned. Written authorization will be in the form of a Special Recreation Use permit or equivalent instrument as determined by the BLM authorized officer. Law enforcement personnel and other public servants specifically authorized by the BLM are exempt from this closure. This closure shall remain in effect until further notice.

The authority for these closures and rule making is 43 CFR 8364.1. Any person who fails to comply with closure or restriction orders is subject to arrest and fines of up to $100,000 and/or imprisonment not to exceed 12 months. Unauthorized vehicles left at the Reading Island Recreation Site or the Swasey Drive ACEC and adjoining areas described while closed will be subject to towing at the owners expense.

DATES: This supplementary rule will take effect January 30th, 2000.

FOR FURTHER INFORMATION CONTACT: Charles Schultz, Field Manager, Redding Field Office, Bureau of Land Management, 355 Hemsted Drive, Redding, CA 96002 (530) 224-2100. For a period of 45 days from the date of publication of this notice, interested parties may submit written comments or objections to the Field Manager, Redding Field Office at the above address.

Dated: December 20, 2000.
Charles Schultz,
Field Manager.

[FR Doc. 01-44 Filed 1-4-01; 8:45 am]

BILLING CODE 4310-40-Q